DEPARTMENT OF THE INTERIOR

National Park Service

[NPS-WASO-NAGPRA-NPS0035443; PPWOCRADN0-PCU00RP14.R50000]

Notice of Inventory Completion: University of California San Diego, San Diego, CA

AGENCY: National Park Service, Interior.

ACTION: Notice.

SUMMARY: In accordance with the Native American Graves Protection and Repatriation Act (NAGPRA), the University of California San Diego has completed an inventory of human remains and associated funerary objects and has determined that there is a cultural affiliation between the human remains and associated funerary objects and Indian Tribes or Native Hawaiian organizations in this notice. The human remains and associated funerary objects were removed from San Diego County, CA.

DATES: Repatriation of the human remains and associated funerary objects in this notice may occur on or after April 10, 2023.

ADDRESSES: Eva Trujillo, University of California San Diego, 9500 Gilman Drive, La Jolla, CA 92093, telephone (858) 414-4609, email e7trujillo@ucsd.edu.

SUPPLEMENTARY INFORMATION: This notice is published as part of the National Park Service's administrative responsibilities under NAGPRA. The determinations in this notice are the sole responsibility of the University of California San Diego. The National Park Service is not responsible for the determinations in this notice. Additional information on the determinations in this notice, including the results of consultation, can be found in the inventory or related records held by the University of California San Diego.

Description

Human remains representing, at minimum, one individual were removed from the Shumway Lot of the Scripps Estates in La Jolla, San Diego County, CA. This location is identified as Hubbs site number “1958:XII:13 (A) SEA. (Scripps Estates) Shumway Lot.” In 1958, Dr. Carl Leavitt Hubbs, an employee of the University of California, San Diego/Scripps Institution of Oceanography (UCSD), removed the human remains and associated funerary objects from the site. The 19 associated funerary objects are one lot of chipped stone, one lot of modified faunal material, five lots of modified shell, one lot of pebbles, one lot of plant leaf fragments, one lot of soil, two lots of unmodified faunal material, and seven lots of unmodified shell.

Human remains representing, at minimum, one individual were removed from Spindrift Drive of the Scripps Estates in La Jolla, San Diego County, CA. This location is identified as Hubbs site number “1961:IX:28A Dec 6” and “Spindrift Drive Midden Dec VI (W-1).” In 1961, Dr. Carl Leavitt Hubbs of UCSD removed the human remains and associated funerary objects from the site. The five associated funerary objects are one lot of ceramic sherds, one lot of charcoal, one lot of stone, one lot of unmodified faunal material, and one lot of unmodified shell.

Human remains representing, at minimum, one individual were removed from Holter's Lot of the Scripps Estates in La Jolla, San Diego County, CA. This location is identified as Hubbs site number “1964:IV:Holters Lot Box 6.” In 1964, Dr. Carl Leavitt Hubbs of UCSD removed the human remains and associated funerary objects from the site. The five associated funerary objects are one lot of chipped stone, one fishing weight, one metate fragment, one lot of pebbles and gravel, and one lot of unmodified shell.

Human remains representing, at minimum, one individual were removed from the Scripps Estates in La Jolla, San Diego County, CA. This location is identified as Hubbs site number “SMT 2 (maybe SMT 1) and Isaac's Lot.” In 1958-1959, Dr. Carl Leavitt Hubbs of UCSD removed the human remains and associated funerary objects from the site. The 17 associated funerary objects are one chipped stone biface, two lots of lithics, two lots of plant matter, one small volcanic stone, one lot of stones, four lots of unmodified faunal material, and six lots of unmodified shell.

Human remains representing, at minimum, one individual were removed from the Scripps Estates in La Jolla, San Diego County, CA. This location is identified as Hubbs site number “SDI-525 Pit 6.” In 1958-1959, Dr. Carl Leavitt Hubbs of UCSD removed the human remains and associated funerary objects from the site. The 14 associated funerary objects are one lot of modified faunal material, three lots of pebbles, three lots of plant matter, one shell pendant, two lots of unmodified faunal material, and four lots of unmodified shell.

The human remains and associated funerary objects listed in this notice were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. In June of 2020, the University of California, San Diego (UCSD) became aware of the Hubbs Collection and, in December 2020, given the scope of the collection and complexities related to provenance, UCSD, MoU, and USD reached an agreement to work together to facilitate NAGPRA compliance.

Cultural Affiliation

The human remains and associated funerary objects described in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, and oral tradition.

Determinations

Pursuant to NAGPRA and its implementing regulations, and after consultation with the appropriate Indian Tribes and Native Hawaiian organizations, the University of California San Diego, CA, has determined that:

• The human remains described in this notice represent the physical remains of five individuals of Native American ancestry.

• The 60 objects described in this notice are reasonably believed to have been placed with or near individual human remains at the time of death or later as part of the death rite or ceremony.

• There is a relationship of shared group identity that can be reasonably traced between the human remains and associated funerary objects described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 10, 2023. If competing requests for repatriation are received, the University of California San Diego must determine the most appropriate requestor prior to repatriation. Requests for joint repatriation of the human remains and associated funerary objects are considered a single request and not competing requests. The University of California San Diego is responsible for sending a copy of this notice to the Indian Tribes identified in this notice.

Authority: Native American Graves Protection and Repatriation Act, 25 U.S.C. 3003, and the implementing regulations, 43 CFR 10.9, 10.10, and 10.14.

Dated: March 1, 2023.
Melanie O'Brien,
Manager, National NAGPRA Program.

[FR Doc. 2023-04896 Filed 3-9-23; 8:45 am]

BILLING CODE 4312-52-P